DEPARTMENT OF THE INTERIOR

Bureau of Land Management

[NV-010-2810-HT]

Elko and Wells Resource Areas Management Plans, Nevada

AGENCY: Bureau of Land Management, Elko Field Office, Elko, Nevada.

ACTION: Notice of Intent To Amend the Elko and Wells RMPs for Fire Management and Initiate a 30-day Public Review and Comment Period.

SUMMARY: The Elko and Wells Resource Management plans (RMPs) were completed in 1987 and 1983, respectively, for the former Elko and Wells Resource Areas of the Elko District of BLM. These two Resource Areas have since been combined into the Elko District which is managed by the Elko Field Office Since inception, the Wells RMP has been amended for elk, utility corridor, and wild horse issues, while the Elko RMP has never been amended. Neither RMP addresses fire management issues in a comprehensive way, and this lack of coverage has created management challenges for the Elko Field Office in recent years. Neither RMP anticipated the growing importance of the role of wildfire in natural and managed ecosystems, nor the increase in wildfire occurrence, intensity, and numbers of acres burned in the Elko District. This increase in wildfire activity has had serious impacts on natural resources, as well as on public land users who rely on these resources.

The proposed plan amendment to revise the Elko and Well Resource Management plans will provide fire management guidance to address issues raised by local state and federal agencies, county governments, Native Americans, ranchers, and environmental groups. Issues and planning criteria identified to date are listed in this Notice under Supplementary Information.

DATES: Meeting dates and other public participation activities will be announced in public notices, the local media, or in letters sent to interested and potentially affected parties. Persons wishing to participate in this amendment process must notify the Elko Field Office at the address and phone number below. Comments on the proposed issues and planning criteria must be submitted during the public review and comment period from April 23, 2001, to May 23, 2001. The public may review the Elko and Wells RMPs at the address below:

ADDRESSES: All comments concerning the proposed fire management RMP amendment should be sent to the BLM Elko Field Office at 3900 East Idaho Street, Elko, NV 89801.

FOR FURTHER INFORMATION CONTACT: Joe Freeland, Project Manager, Elko BLM Field Office, at the above address or at (775) 753-0308.

SUPPLEMENTARY INFORMATION: This Notice satisfies the requirements in the regulation at 43 CFR 1610.2(c) for amending Resource Management Plan. The 5th Year RMP Evaluation completed in FY 2000 for the Elko RMP identified fire management as an important issue that was not adequately addressed in the RMP, and for which an RMP amendment was recommended. A similar 5th Year RMP Evaluation will be completed for the Wells RMP in FY 2002. However, since the Wells RMP also lacks any substantive coverage of fire management issues, it is reasonable to recommend that a fire management amendment to this RMP be completed during the same process to amend the Elko RMP.

Issues regarding fire management identified to date include:

1. Suppression Strategy: The Elko Field Office RMPs currently offer little guidance on setting suppression strategies to balance maintenance of healthy ecosystems dependant on fire with protection of other resources. While some public land users advocate full fire suppression on all public lands, others feel that wildfire is a natural process that should be allowed in some areas. Many ranchers propose intensive livestock grazing as a strategy to reduce fuels in fire-prone areas, while other advocacy groups are concerned about the impacts from this proposed strategy on native vegetation and wildlife.

2. Prescribed Fire Use: The use of prescribed fire is currently an area of public concern due to recent publicity over escaped burns in Los Alamos and California. The Elko District could benefit from prescribed fire use in high fuel load areas to reduce the potential impacts from severe wildland fire and to improve habitat. Local residents need to be involved with all prescribed fire planning and support any proposed prescribed fire projects.

3. Conversion of Sagebrush Habitat: Wildlife managers throughout the Great Basin are concerned over the precipitous decline in sage grouse numbers in recent years, thus causing an increased demand for the protection of sagebrush habitat throughout Elko District. Wildfire can both improve and devastate sage grouse habitat. Managing this habitat in view of competing resource uses and the spread of invasive, nonnative weeds throughout the district is a challenge for local land managers.

4. Emergency Fire Rehabilitation (EFR): Some EFR procedures are controversial, including fencing recently burned and/or rehabilitated areas to prevent grazing on fragile re-vegetation, as well as seeding with non-native grass species which out-compete noxious weeds and cheatgrass. Fencing burned areas in wild horse Herd Management Areas can disrupt movement of wild horses and are not popular with wild horse advocacy groups. Livestock owners are also concerned about the economic impacts of some EFR projects on their livelihood.

5. Forest Resources: Declining forest resources throughout the district put remaining stands at risk. Some stands need fire to insure forest ecosystem health. However, extensive fuels buildup could cause high intensity fires, leading to stand replacement as well as firefighter safety issues. In addition, Native Americans have concerns over the health of pinyon pine tree stands, since the tree and its fruit are important in maintaining their traditions.

6. Invasive, Nonnative Weeds: The significant resources required to fight noxious weed and cheatgrass invasions requires the cooperation of all landowners in affected areas in the district. Wildfire management is one of the most important factors affecting the spread of these weeds in the Elko District.

7. Fire Suppression Costs and Affect on Local Rural Economies: Although high suppression costs affect all taxpayers, many local rural communities depend heavily on the influx of dollars from fire suppression efforts. Less fire suppression could lead to the saving of tax dollars and the possible improvement of some habitat values, however, several local economies may be negatively impacted by any changes.

8. Community Assistance: Better communication, training, and cooperation with local communities would aid in reducing the threat from wildfire in the wildland urban interface, reduce arson, trespass, and negligence occurrence, and encourage fire prevention.

BLM planning regulations (43 CFR 1610) require preparation of planning criteria to guide development of all resource management plans, revisions, and amendments. Planning criteria are based on: standards prescribed by applicable laws and regulations; agency guidance; the result of consultation and coordination with the public and other Federal, State and local agencies and governmental entities and Native American tribes; analysis of information pertinent to the planning area; and professional judgement. The following preliminary criteria were developed internally and will be reviewed by the public before being used in the amendment/EA process. After analysis of public input, they will become proposed criteria, and can be added to or changed as issues are addressed or new information is presented. The Elko Field Manager will approve all planning criteria, as well as any proposed changes:

—The fire management RMP amendment will be completed in compliance with FLPMA and all other applicable laws and regulations.

—The Elko Field Office Planning Interdisciplinary Team will work cooperatively with the State of Nevada, tribal governments, county and municipal governments, other Federal agencies, and all other interested groups, agencies, and individuals. Public participation will be encouraged throughout the planning process.

—The RMP amendment will establish the fire management guidance upon which the BLM will rely in managing the Elko District, for the life of both the Elko and Wells RMPs.

—The RMP amendment process will include an Environmental Assessment that will comply with all National Environmental Policy Act standards.

—The RMP amendment will emphasize the protection and enhancement of Elko District natural resources, while at the same time providing the public with opportunities for use of these resources.

—The lifestyles and concerns of area residents, including livestock grazing, recreational uses, and other land uses, will be recognized in the amendment.

—Any lands located within the Elko District administrative boundary which are acquired by the BLM, will be managed consistent with the amendment, subject to any constraints associated with the acquisition.

—The amendment will recognize the State's responsibility to manage wildlife.

—The amendment will incorporate the Nevada Rangeland Health Standards and Guidelines and be consistent with the Nevada Sage Grouse Management Guidelines.

—The planning process will involve Native American tribal governments and will provide strategies for the protection of recognized traditional uses.

—Decisions in the amendment will strive to be consistent with the existing plans and policies of adjacent local, State, Tribal and Federal agencies, to the extent consistent with Federal law.

Freedom of Information Act Considerations: Public comments submitted for this planning amendment, including names and street addresses of respondents, will be available for public review and disclosure at the Elko Field Office during regular business hours. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

Dated: April 6, 2001.
Helen Hankins,
Elko Field Manager.

[FR Doc. 01-10210 Filed 4-24-01; 8:45am]

BILLING CODE 4310-HC-M